ELECTION ASSISTANCE COMMISSION

Sunshine Act Notice

AGENCY: U.S. Election Assistance Commission.

ACTION: Notice of Public Meeting & Hearing Agenda.

Date & Time: Wednesday, September 2, 2009, 10 a.m.-12 p.m. EDT (Morning Session); 1 p.m.-4 p.m. EDT (Afternoon Session).

Place: U.S. Election Assistance Commission, 1225 New York Ave, NW., Suite 150, Washington, DC 20005 (Metro Stop: Metro Center).

Agenda: The Commission will hold a public meeting to consider administrative matters. The Commission will receive an update about UOCAVA activities. The Commission will hear panelists discuss the July 19, 2009 NASS Resolution on Help America Vote Act of 2002 (HAVA) Grant and Payment Distinction. The Commission will have a hearing regarding Commercial-Off-The-Shelf (COTS) Software/Hardware.

Members of the public may observe but not participate in EAC meetings unless this notice provides otherwise. Members of the public may use small electronic audio recording devices to record the proceedings. The use of other recording equipment and cameras requires advance notice to and coordination with the Commission's Communications Office.*

* View EAC Regulations Implementing Government in the Sunshine Act.

This meeting will be open to the public.

Person to Contact for Information: Bryan Whitener, Telephone: (202) 566-3100.

Alice Miller,
Chief Operating Officer, U.S. Election Assistance Commission.

[FR Doc. E9-20070 Filed 8-18-09; 11:15 am]

BILLING CODE 6820-KF-P